DEPARTMENT OF COMMERCE

National Oceanic and Atmospheric Administration

[I.D. 021207B]

Endangered and Threatened Species; Take of Anadromous Fish

AGENCY: National Marine Fisheries Service (NMFS), National Oceanic and Atmospheric Administration (NOAA), Commerce.

ACTION: Applications for three scientific research permits and one modification.

SUMMARY: Notice is hereby given that NMFS has received four scientific research permit application requests relating to Pacific salmon. The proposed research is intended to increase knowledge of species listed under the Endangered Species Act (ESA) and to help guide management and conservation efforts.

DATES: Comments or requests for a public hearing on the applications must be received at the appropriate address or fax number (see ADDRESSES) no later than 5 p.m. Pacific standard time on March 22, 2007.

ADDRESSES: Written comments on the applications should be sent to the Protected Resources Division, NMFS, 1201 NE Lloyd Blvd., Suite 1100, Portland, OR 97232-1274. Comments may also be sent via fax to 503-230-5441 or by e-mail to resapps.nwr@NOAA.gov.

FOR FURTHER INFORMATION CONTACT: Garth Griffin, Portland, OR (ph.: 503-231-2005, Fax: 503-230-5441, e-mail: Garth.Griffin@noaa.gov). Permit application instructions are available from the address above.

SUPPLEMENTARY INFORMATION:

Species Covered in This Notice

The following listed species are covered in this notice:

Chinook salmon (Oncorhynchus tshawytscha): threatened lower Columbia River (LCR), endangered upper Columbia River (UCR), threatened Snake River (SR) spring/summer-run (spr/sum), threatened SR fall-run, threatened Puget Sound (PS).

Chum salmon (O. keta): threatened Columbia River (CR), threatened Hood Canal (HC).

Steelhead (O. mykiss): threatened LCR, threatened middle Columbia River (MCR), threatened Snake River (SR), threatened UCR, proposed threatened PS.

Coho salmon (O. kisutch): threatened LCR.

Sockeye salmon (O. nerka): threatened Ozette Lake (OL), endangered SR.

Authority

Scientific research permits are issued in accordance with section 10(a)(1)(A) of the ESA (16 U.S.C. 1531 et. seq) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1339

The Columbia River Inter-tribal Fish Commission (CRITFC) is currently authorized to annually take adult, threatened, SR spr/sum Chinook salmon and adult, threatened, SR steelhead while conducting research in a number of the tributaries to the Imnaha River in Oregon. Their permit to do so is expiring this year and they desire to renew it for another five years. The purpose of the research is to acquire information on the status (escapement abundance, genetic structure, life history traits) of steelhead in the Imnaha River Basin. The research will continue to benefit the listed species by providing information that fisheries managers can use to determine if recovery actions are helping increase wild Snake River salmonid populations. Baseline information on steelhead populations in the Imnaha River Basin would also be used to help guide future management actions. Adult salmon and steelhead would be observed/harassed during spawning ground surveys and snorkeling activities. They would also be collected using temporary/portable picket weirs, sampled for biological information, sampled for fin tissues and scales, marked with opercule punches, tagged with Tyvek disc tags, and released. Adult steelhead carcasses would also be collected and sampled for tissues and/or scales and biological information. The CRITFC does not intend to kill any of the fish being captured but a small number may die as an unintended result of the activities.

Permit 1379 — Modification 2

For a number of years, CRITFC has been permitted to annually take UCR Chinook salmon, UCR steelhead, SR spr/sum Chinook salmon, SR fall Chinook salmon, SR sockeye salmon, LCR Chinook salmon, and LCR coho salmon while conducting three studies designed to increase what we know about the status and productivity of various fish populations, collect data on migratory and exploitation (harvest) patterns, and develop baseline information on various population and habitat parameters in order to guide salmonid restoration strategies. The studies are: Project 1 Juvenile Upriver Bright Fall Chinook Sampling at the Hanford Reach; Project 2 Adult Chinook, Sockeye, and Coho Sampling at Bonneville Dam; and Project 3 Adult Sockeye Sampling at Tumwater Dam, Wenatchee River.

This year, CRITFC is seeking to add three new aspects to their currently allowed research: (1) They wish add adult tagging as a permitted activity for all species sampled at Bonneville Dam; (2) they are seeking to add adult steelhead sampling at Bonneville Dam to their permit rather than having it covered by a separate permit (this action would necessitate adding MCR steelhead to the permit); and (3) they seek to increase their allowable take for the Hanford project as it appears likely they will receive funding for a new project which would increase the number of UCR and SR spring-run Chinook salmon they catch.

The research would benefit listed fish by helping managers set in-river and ocean harvest regimes so that they have minimal impacts on listed populations. It would also help managers prioritize projects in a way that gives maximum benefit to listed species including projects designed to help the listed fish recover. The CRITFC does not intend to kill any of the fish being captured but a small number may die as an unintended result of the activities.

Permit 1590

The U.S. Army Corps of Engineers (USACE) is requesting a permit to annually take juvenile PS Chinook salmon and HC chum salmon over the next five years. The research would also affect the PS steelhead (currently proposed for listing as “threatened”). The purpose of the research is to study the marine phase of “resident” Chinook salmon, a life-history type that rears to adulthood in the Puget Sound marine zone foregoing the typical ocean migration of the species. The goals are to describe the behavior and life history of resident Chinook salmon, and determine whether the proportion of PS Chinook salmon adopting this resident pattern varies among populations and hatchery stocks. Research activities would be conducted throughout the marine zone of Puget Sound and Hood Canal, Washington. The information gathered by this research would be used to develop a conceptual model of the life history of resident PS Chinook. The research would benefit PS Chinook by helping managers develop a better understanding of the abundance, distribution, and habitat requirements of this life history strategy. The USACE proposes to capture fish using shoreline and boat angling, beach seining, and purse-seining. Captured fish would be anesthetized, measured, checked for fin clip or CWT, tagged with acoustic or archival loggers, and fin clipped for tissue samples. Additionally, stomach content samples would be collected from a portion of the captured fish. The USACE does not intend to kill any of the fish being captured but a small number may die as an unintended result of the activities.

Permit 1598

The Washington Department of Transportation (WSDOT) is requesting a 5-year research permit to annually take all fish species identified in this notice while conducting research throughout the State of Washington. The purpose of the research is determine the distribution and diversity of anadromous fish species in waterbodies crossed by or adjacent to the state transportation systems (highways, railroads, and/or airports). The surveys would help establish presence of listed salmon and steelhead in waterbodies about which we currently have little data. That information would be used to assess the impacts proposed projects may have on listed species. The research would benefit the listed species by helping WSDOT develop best management practices and in-water work window timing so they can minimize the harm their projects may do to listed fish. Survey methods would depend on the size of the stream system and may include snorkel surveys, dip nets, stick seines, baited gee minnow traps and electrofishing. Fish would be captured, identified, and released in the same location. The WSDOT does not intend to kill any of the fish being captured but a small number may die as an unintended result of the activities.

This notice is provided pursuant to section 10(c) of the ESA. NMFS will evaluate the application, associated documents, and comments submitted to determine whether the application meets the requirements of section 10(a) of the ESA and Federal regulations. The final permit decisions will not be made until after the end of the 30-day comment period. NMFS will publish notice of its final action in the Federal Register.

Dated: February 14, 2007.
Angela Somma,
Chief, Endangered Species Division, Office of Protected Resources, National Marine Fisheries Service.

[FR Doc. E7-2847 Filed 2-19-07; 8:45 am]

BILLING CODE 3510-22-S